FEDERAL RESERVE SYSTEM

Formations of, Acquisitions by, and Mergers of Bank Holding Companies; Correction

This notice corrects a notice (FR Doc. 2013-24511) published on page 62363 of the issue for Monday, October 21, 2013.

Under the Federal Reserve Bank of Dallas heading, the entry for WCM-Parkway, Ltd, Dallas, Texas, is revised to read as follows:

A. Federal Reserve Bank of Dallas (E. Ann Worthy, Vice President) 2200 North Pearl Street, Dallas, Texas 75201-2272:

1. WCM Holdings, Inc., and WCM-Parkway, Ltd., both in Dallas, Texas; to acquire up to 15 percent of the voting shares of Veritex Holdings, Inc., and thereby indirectly acquire voting shares of Veritex Community Bank, both in Dallas, Texas.

Comments on this application must be received by November 14, 2013.

Board of Governors of the Federal Reserve System, October 21, 2013.
Margaret McCloskey Shanks,
Deputy Secretary of the Board.

[FR Doc. 2013-24993 Filed 10-23-13; 8:45 am]

BILLING CODE 6210-01-P